DEPARTMENT OF TRANSPORTATION

Federal Railroad Administration

[Docket Number FRA-2011-0041]

Notice of Application for Approval of Discontinuance or Modification of a Railroad Signal System

In accordance with Part 235 of Title 49 of the Code of Federal Regulations (CFR) and 49 U.S.C. 20502(a), this document provides the public notice that by a document dated April 22, 2011, the National Railroad Passenger Corporation (Amtrak) has petitioned the Federal Railroad Administration (FRA) seeking approval for the discontinuance or modification of a signal system. FRA assigned the petition Docket Number FRA-2011-0041.

Amtrak seeks approval of the proposed decrease of the limits of Hart Interlocking, milepost 32.7 on Amtrak's Springfield Line, Northeast Division East in Hartford, Connecticut. The proposed decrease of limits consists of moving the 2S signal on the siding south to the clearance point of the No. 12 switch adjacent to the 1S signal that is on track number 1; eliminating the 3S signal and making the No. 32 power-operated switch a hand-operated switch, which will be outside of the decreased interlocking limits

A copy of the petition, as well as any written communications concerning the petition, is available for review online at http://www.regulations.gov and in person at the Department of Transportation's Docket Operations Facility, 1200 New Jersey Ave., SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by July 29, 2011 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on June 9, 2011.
Robert C. Lauby,
Deputy Associate Administrator for Regulatory & Legislative Operations.

[FR Doc. 2011-14733 Filed 6-13-11; 8:45 am]

BILLING CODE 4910-06-P